DEPARTMENT OF THE TREASURY

Alcohol and Tobacco Tax and Trade Bureau

27 CFR Part 9

[Docket No. TTB-2011-0009; Notice No. 123A; Re: Notice No. 123]

RIN 1513-AB67

Proposed Establishment of the Middleburg Virginia Viticultural Area; Comment Period Reopening

AGENCY: Alcohol and Tobacco Tax and Trade Bureau, Treasury.

ACTION: Notice of proposed rulemaking; reopening of comment period.

SUMMARY: The Alcohol and Tobacco Tax and Trade Bureau is reopening the comment period for Notice No. 123, Proposed Establishment of the Middleburg Virginia Viticultural Area, a notice of proposed rulemaking published in the Federal Register on November 8, 2011. TTB is taking this action in response to a request from a local wine industry organization.

DATES: Written comments on the proposed Middleburg Virginia viticultural area are now due on or before February 27, 2012.

ADDRESSES: You may send comments on Notice No. 123 to one of the following addresses:

• http://www.regulations.gov: To submit comments via the Internet, use the comment form for Notice No. 123 as posted within Docket No. TTB-2011-0009 on “Regulations.gov,” the Federal e-rulemaking portal;

• U.S. Mail: Director, Regulations and Rulings Division, Alcohol and Tobacco Tax and Trade Bureau, P.O. Box 14412, Washington, DC 20044-4412.

• Hand Delivery/Courier in Lieu of Mail: Alcohol and Tobacco Tax and Trade Bureau, 1310 G Street NW., Suite 200-E, Washington, DC 20005.

See the Public Participation section of this notice for specific instructions and requirements for submitting comments, and for information on how to request a public hearing.

You may view copies of the petitions, supporting materials, published notices, and all public comments associated with this proposal within Docket No. TTB-2011-0009 at http://www.regulations.gov. You also may view copies of the petitions, supporting materials, published notices, and all public comments associated with this proposal by appointment at the TTB Information Resource Center, 1310 G Street NW., Washington, DC 20005. Please call 202-453-2270 to make an appointment.

FOR FURTHER INFORMATION CONTACT: Elisabeth C. Kann, Regulations and Rulings Division, Alcohol and Tobacco Tax and Trade Bureau, 1310 G Street NW., Box 12, Washington, DC 20005; telephone 202-453-1039, ext. 002.

SUPPLEMENTARY INFORMATION: In Notice No. 123, a notice of proposed rulemaking published in the Federal Register on November 8, 2011 (76 FR 69198), the Alcohol and Tobacco Tax and Trade Bureau (TTB) requested public comment on the proposed establishment of an approximately 198-square mile (or 126,720 acre) “Middleburg Virginia” American viticultural area in portions of Loudoun and Fauquier Counties in northern Virginia. The 60-day comment period for Notice No. 123, originally closed on January 9, 2012.

On January 6, 2012, TTB received a request from the president of the Loudoun Wine Growers Association, for an extension of the comment period for Notice No. 123. (This request is posted as Comment 12 within Docket No. TTB-2011-0009 at www.regulations.gov). This comment states that the organization “was not aware of this notice in time to meet and discuss the establishment of this [viticultural area] as it includes many of our members.”

In response to this request, TTB reopens the comment period for Notice No. 123 for an additional 45 days. We believe this additional time will allow industry members and the general public to fully consider the proposed establishment of the Middleburg Virginia viticultural area. Therefore, comments on Notice No. 123 are now due on or before February 27, 2012.

Drafting Information

Michael D. Hoover of the Regulations and Rulings Division drafted this notice.

Signed: January 9, 2012.
John J. Manfreda,
Administrator.

[FR Doc. 2012-525 Filed 1-12-12; 8:45 am]

BILLING CODE 4810-31-P